NEIGHBORHOOD REINVESTMENT CORPORATION

Regular Board of Directors Meeting; Sunshine Act

TIME AND DATE: 12:30 p.m., Tuesday, December 6, 2016.

PLACE: NeighborWorks America—Gramlich Boardroom, 999 North Capitol Street NE., Washington DC 20002.

STATUS: Open (with the exception of Executive Session).

CONTACT PERSON: Jeffrey Bryson, EVP & General Counsel/Secretary, (202) 760-4101; jbryson@nw.org.

AGENDA:

I. CALL TO ORDER

II. Approval of Minutes

III. Executive Session: Report from CEO

IV. Gift Acceptance Policy

V. CounselorMax (CMS)

VI. LIFT

VII. Future Issues, Management Program Background and Updates

VIII. Adjournment

The General Counsel of the Corporation has certified that in his opinion, one or more of the exemptions set forth in 5 U.S.C. 552 (b)(2) permit closure of the following portion(s) of this meeting:

• Report from CEO

Jeffrey T. Bryson,
EVP & General Counsel/Corporate Secretary.

[FR Doc. 2016-28595 Filed 11-22-16; 4:15 pm]

BILLING CODE 7570-02-P